DEPARTMENT OF ENERGY

Department of Energy Draft Depleted Uranium Hexafluoride Materials Use Roadmap

AGENCY: Office of Nuclear Energy, Science and Technology, Department of Energy.

ACTION: Notice of availability.

SUMMARY: The Department of Energy (DOE) has issued a draft Roadmap that it intends to use to guide any future research and development (R&D) activities for the materials associated with its depleted uranium hexafluoride (DUF6) inventory and certain other depleted uranium. On August 2, 1999, DOE issued a Record of Decision (ROD) for Long-Term Management and Use of Depleted Uranium Hexafluoride. This ROD indicated that DOE has decided to promptly convert the DUF6 inventory to a more chemically stable form. DOE is committed to conducting a program to effect this conversion as rapidly as is practical. In addition, DOE plans a parallel effort to conduct appropriate R&D to assure the most effective disposition of the converted depleted uranium product. This activity will include appropriate investments in the exploration of potential beneficial use of the DU and other materials resulting from the conversion of the DUF6, i.e., fluorine and empty carbon steel storage cylinders, to achieve cost savings to the Government, contrasted to simply disposing of the materials. However, the Government will also carry out research activities necessary to assure the direct disposal of these materials if cost-effective and realistic beneficial uses are not found.

The Roadmap characterizes and analyzes paths for the eventual disposition of these materials, identifies the barriers that exist for those paths, and proposes research, development, and other activities in order to eliminate such barriers. The Roadmap also addresses other surplus depleted uranium, primarily in the form of DU trioxide and DU tetrafluoride.

DOE invites all interested parties to review the draft Roadmap and to submit comments. The draft Depleted Uranium Hexafluoride Materials Use Roadmap is available for downloading via the Internet at www.nuclear.gov.

DATES: Comments on the draft Roadmap will be accepted during a public comment period that ends on October 20, 2000. DOE will consider comments received after this date to the extent practicable.

ADDRESSES: Written comments, requests for further information, or requests for copies of the document may be submitted over the Internet by sending them to DUF6.comments@hq.doe.gov. Please annotate the message subject as dealing with the DUF6 Materials Use Roadmap. Anyone without Internet access can request a hard copy of the Roadmap and/or submit comments by sending a fax with name and address to (301) 903-4905 or sending a card or letter to the Depleted Uranium Hexafluoride Management Program (NE-30), U.S. Department of Energy, 19901 Germantown Road, Germantown, MD 20874.

FOR FURTHER INFORMATION CONTACT: Mr. Robert R. Price, U.S. Department of Energy, Office of Nuclear Energy, Science and Technology, 19901 Germantown Road, Germantown, MD 20874. Telephone 301/903-9527, Facsimile 301/903-4905.

SUPPLEMENTARY INFORMATION:

Background

On July 6, 1999, DOE issued the Final Plan for the Conversion of Depleted Uranium Hexafluoride as required by Public Law 105-204. In that final plan, DOE committed to develop a Depleted Uranium Hexafluoride Materials Use Roadmap in order to establish a corporate plan for the application of DUF6 and DUF6-derived materials that will focus on potential Governmental uses of DUF6 but will also incorporate limited analysis of established uses of DUF6-derived materials in the private sector. This commitment supports the preferred alternative presented in the Final Programmatic Environmental Impact Statement for Alternative Strategies for the Long-Term Management and Use of Depleted Uranium Hexafluoride, DOE/EIS-0269, namely, to begin conversion of the DUF6 inventory as soon as possible, either to uranium oxide, uranium metal, or a combination of both, while allowing for future uses of as much of this inventory as possible.

Issued in Washington, DC, August 31, 2000.
William D. Magwood IV,
Director, Office of Nuclear Energy, Science and Technology.

[FR Doc. 00-22964 Filed 9-6-00; 8:45 am]

BILLING CODE 6450-01-P